DEPARTMENT OF THE INTERIOR

Bureau of Indian Affairs

Indian Gaming

Correction

In notice document 03-18631 appearing on page 43366 in the issue of Tuesday, July 22, 2003, make the following corrections:

1. On page 43366, in the first column, under the heading action, in the fourth line, “Bank” should read, “Band”.

2. On the same page, in the same column, under the same heading,in the seventh line, “Bank” should read, “Band”.

3. On the same page, in the same column, under the heading summary, in the 14th line, “Bank” should read, “Band”.

[FR Doc. C3-18631 Filed 8-7-03; 8:45 am]

BILLING CODE 1505-01-D

DEPARTMENT OF VETERANS AFFAIRS

Chiropractic Advisory Committee; Notice of Meeting

Correction

In notice document 03-19758 appearing on page 45895 in the issue of Monday, August 4, 2003 make the following correction:

On page 45895, in the second column, in the first paragragh, in the third line from the bottom, “8011 I St.” should read, “801 I. St.”.

[FR Doc. C3-19758 Filed 8-7-03; 8:45 am]

BILLING CODE 1505-01-D